DEPARTMENT OF HOMELAND SECURITY

U.S. Citizenship and Immigration Services

Agency Information Collection Activities: Extension of a Currently Approved Information Collection; Request for Comments and Suggestions for Making the Form More User Friendly

ACTION: 60-Day Notice of Information Collection Under Review: Form I-589, Application for Asylum and Withholding of Removal; OMB Control No. 1615-0067.

The Department of Homeland Security, U.S. Citizenship and Immigration Services (USCIS) has submitted the following information collection request for review and clearance in accordance with the Paperwork Reduction Act of 1995. The information collection is published to obtain comments from the public and affected agencies. Comments are encouraged and will be accepted for sixty days until August 28, 2007.

Written comments and/or suggestions regarding the item(s) contained in this notice, especially regarding the estimated public burden and associated response time, should be directed to the Department of Homeland Security (DHS), USCIS, Chief, Regulatory Management Division, Clearance Office, 111 Massachusetts Avenue, 4th floor, Washington, DC 20529. Comments may also be submitted to DHS via facsimile to 202-272-8352 or via e-mail at rfs.regs@dhs.gov. When submitting comments by e-mail please make sure to add OMB Control Number 1615-0067 in the subject box. Comments received from the public will also be provided to the Department of Justice, Executive Office for Immigration Review, for review and response as part of this information collection request. Written comments and suggestions from the public and affected agencies should address one or more of the following five points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected;

(4) Minimize the burden of the collection of information on those who are to respond, including through the use of appropriate automated, electronic, mechanical, or other technological collection techniques or other forms of information technology, e.g., permitting electronic submission of responses; and

(5) Suggest how the collection of information can be made more customer-friendly, identify any confusing and/or unnecessary language contained in the collection of information (including the form and form instructions), and offer specific ways that the form and form instructions can be improved upon or clarified so that they are more easily understood by those who do not speak English as their primary language and who may not be familiar with legal terms. Any suggested changes in language must be consistent with the statutory, regulatory and legal requirements for asylum, withholding of removal, and protection pursuant to the Convention Against Torture, and must be sufficiently precise so as to elicit the information needed by adjudicators to decide the cases before them and to provide adequate notice to the applicant of the legal consequences and requirements associated with the application.

Overview of this information collection:

(1) Type of Information Collection: Extension of a currently approved information collection.

(2) Title of the Form/Collection: Application for Asylum and for Withholding of Removal.

(3) Agency form number, if any, and the applicable component of the Department of Homeland Security sponsoring the collection: Form I-589. U.S. Citizenship and Immigration Services.

(4) Affected public who will be asked or required to respond, as well as a brief abstract: Primary: Individuals or Households. This information collection will be used to determine whether an alien applying for asylum and/or withholding of deportation in the United States is classifiable as a refugee, and is eligible to remain in the United States.

(5) An estimate of the total number of respondents and the amount of time estimated for an average respondent to respond: 63,138 responses at 12 hours per response.

(6) An estimate of the total public burden (in hours) associated with the collection: 757,656 annual burden hours.

If you have additional comments, suggestions, or need a copy of the proposed information collection instrument with instructions, or additional information, please visit the USCIS Web site at: http://www.uscis.gov/portal/site/uscis/menuitem.eb1d4c2a3e5b9ac89243c6a7543f6d1a/?vgnextoid=29227b58fa16e010VgnVCM1000000ecd190aRCRD&vgnextchannel=29227b58fa16e010VgnVCM1000000ecd190aRCRD.

If additional information is required contact: USCIS, Regulatory Management Division, 111 Massachusetts Avenue, 3rd Floor, Washington, DC 20529, (202) 272-8377.

Dated: June 25, 2007.
Richard A. Sloan,
Chief, Regulatory Management Division, U.S. Citizenship and Immigration Services, Department of Homeland Security.

[FR Doc. E7-12630 Filed 6-28-07; 8:45 am]

BILLING CODE 4410-10-P